DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them. Additionally, OFAC is publishing the names of one or more persons that have been removed from the SDN List. Their property and interests in property are no longer blocked, and U.S. persons are no longer generally prohibited from engaging in transactions with them.

DATES: See SUPPLEMENTARY INFORMATION section.

FOR FURTHER INFORMATION CONTACT:

OFAC: Associate Director for Global Targeting, tel: 202-622-2420; Assistant Director for Licensing, tel.: 202-622-2480; Assistant Director for Regulatory Affairs, tel.: 202-622-4855; Assistant Director for Sanctions Compliance & Evaluation, tel.: 202-622-2490; or the Department of the Treasury's Office of the General Counsel: Office of the Chief Counsel (Foreign Assets Control), tel.: 202-622-2410.

SUPPLEMENTARY INFORMATION:

Electronic Availability

The SDN List and additional information concerning OFAC sanctions programs are available on OFAC's website (https://www.treasury.gov/ofac).

Notice of OFAC Actions

A. On September 24, 2019, OFAC determined that the property and interests in property subject to U.S. jurisdiction of the following persons are blocked under the relevant sanctions authority listed below.

Entities

1. CAROIL TRANSPORT MARINE LTD (a.k.a. CAROIL TRANSPORT MARINE LIMITED), Arch Makariou III Avenue 284, Fortuna Court, Block B, 2nd Floor, Limassol, Cyprus; Identification Number IMO 1869514; Registration Number HE 47364 (Cyprus) [VENEZUELA-EO13850].

Designated pursuant to section 1(a)(i) of Executive Order 13850 (E.O. 13850) of November 1, 2018, “Blocking Property of Additional Persons Contributing to the Situation in Venezuela,” as amended by Executive Order 13857, “Taking Additional Steps to Address the National Emergency with Respect to Venezuela,” of January 25, 2019, for operating in the oil sector of the Venezuelan economy.

2. TOVASE DEVELOPMENT CORP, Panama City, Panama; Identification Number IMO 5447549; Company Number 568507 (Panama) [VENEZUELA-EO13850].

Designated pursuant to section 1(a)(i) of E.O. 13850, as amended by E.O. 13857, for operating in the oil sector of the Venezuelan economy.

3. TROCANA WORLD INC., Panama City, Panama; Identification Number IMO 5411381; Company Number 582152 (Panama) [VENEZUELA-EO13850].

Designated pursuant to section 1(a)(i) of E.O. 13850, as amended by E.O. 13857, for operating in the oil sector of the Venezuelan economy.

4. BLUELANE OVERSEAS SA, Panama City, Panama; Identification Number IMO 6109861 [VENEZUELA-EO13850].

Designated pursuant to section 1(a)(i) of E.O. 13850, as amended by E.O. 13857, for operating in the oil sector of the Venezuelan economy.

Vessels

1. CARLOTA C Chemical/Products Tanker Panama flag; Vessel Registration Identification IMO 9502453 (vessel) [VENEZUELA-EO13850] (Linked To: CAROIL TRANSPORT MARINE LTD).

Identified pursuant to E.O. 13850, as amended by E.O. 13857, as property in which CAROIL TRANSPORT MARINE LTD, a person whose property and interest in property are blocked pursuant to E.O. 13850, as amended by E.O. 13857, has an interest.

2. PETION Products Tanker Panama flag; Vessel Registration Identification IMO 9295098 (vessel) [VENEZUELA-EO13850] (Linked To: CAROIL TRANSPORT MARINE LTD; Linked To: TROCANA WORLD INC.).

Identified pursuant to E.O. 13850, as amended by E.O. 13857, as property in which CAROIL TRANSPORT MARINE LTD and TROCANA WORLD INC., persons whose property and interest in property are blocked pursuant to E.O. 13850, as amended by E.O. 13857, have an interest.

3. SANDINO Chemical/Products Tanker Panama flag; Vessel Registration Identification IMO 9441178 (vessel) [VENEZUELA-EO13850] (Linked To: CAROIL TRANSPORT MARINE LTD; Linked To: TOVASE DEVELOPMENT CORP).

Identified pursuant to E.O. 13850, as amended by E.O. 13857, as property in which CAROIL TRANSPORT MARINE LTD and TOVASE DEVELOPMENT CORP, persons whose property and interest in property are blocked pursuant to E.O. 13850, as amended by E.O. 13857, have an interest.

4. GIRALT Crude Oil Tanker Panama flag; Vessel Registration Identification IMO 9259692 (vessel) [VENEZUELA-EO13850] (Linked To: BLUELANE OVERSEAS SA).

Identified pursuant to E.O. 13850, as amended by E.O. 13857, as property in which BLUELANE OVERSEAS SA, a person whose property and interested in property are blocked pursuant to E.O. 13850, as amended by E.O. 13857, has an interest.

B. OFAC previously determined on January 8, 2019; April 12, 2019; and on May 10, 2019 that the persons listed below met one or more of the criteria under E.O. 13850. On September 24, 2019, OFAC determined that circumstances no longer warrant the inclusion of the following persons on the SDN List under this authority. These persons are no longer subject to the blocking provisions of Section 1(a) of E.O. 13850.

Entity

1. LIMA SHIPPING CORPORATION (a.k.a. LIMA SHIPPING CORP), 80 Broad Street, Monrovia, Liberia; Identification Number IMO 4063640 [VENEZUELA-EO13850].

2. SERENITY MARITIME LIMITED (a.k.a. SERENITY MARITIME LTD.; a.k.a. SERENITY MARITIME LTD-LIB), Broad Street 80, Monrovia 1000, Liberia [VENEZUELA-EO13850].

Vessels and Aircraft

1. NEW HELLAS Crude Oil Tanker Greece flag; Vessel Registration Identification IMO 9221891 (vessel) [VENEZUELA-EO13850] (Linked To: LIMA SHIPPING CORPORATION).

2. LEON DIAS Chemical/Oil Tanker Panama flag; Vessel Registration Identification IMO 9396385 (vessel) [VENEZUELA-EO13850] (Linked To: SERENITY MARITIME LIMITED).

3. N133JA; Aircraft Model Mystere Falcon 50EX; Aircraft Manufacturer's Serial Number (MSN) 268; Aircraft Tail Number N133JA (aircraft) [VENEZUELA-EO13850] (Linked To: PERDOMO ROSALES, Gustavo Adolfo).

Dated: September 24, 2019.
Bradley T. Smith,
Deputy Director, Office of Foreign Assets Control.

[FR Doc. 2019-21026 Filed 9-26-19; 8:45 am]

BILLING CODE 4810-AL-P